DEPARTMENT OF THE INTERIOR

Fish and Wildlife Service

50 CFR Part 17

[FWS-R8-ES-2008-0067; MO 9221050083-B2]

Endangered and Threatened Wildlife and Plants; 90-Day Finding on a Petition To Reclassify the Delta Smelt (Hypomesus transpacificus) From Threatened to Endangered

AGENCY: Fish and Wildlife Service, Interior.

ACTION: Notice of 90-day petition finding; reopening of the information solicitation period.

SUMMARY: We, the U.S. Fish and Wildlife Service (Service), announce the reopening of the public information solicitation period on the July 10, 2008, 90-day finding on a petition to reclassify the delta smelt (Hypomesus transpacificus) from threatened to endangered under the Endangered Species Act of 1973, as amended (Act). This action will provide all interested parties with an additional opportunity to submit information and materials on the status of delta smelt. Information previously submitted need not be resubmitted as it will already be incorporated into the public record and will be fully considered in the 12-month finding.

DATES: We are reopening the public information solicitation period and request that we receive information on or before February 9, 2009.

ADDRESSES: You may submit information by one of the following methods:

• Federal eRulemaking Portal: http://www.regulations.gov. Follow the instructions for submitting comments.

• U.S. mail or hand-delivery: Public Comments Processing, Attn: FWS-R8-ES-2008-0067; Division of Policy and Directives Management; U.S. Fish and Wildlife Service; 4401 N. Fairfax Drive, Suite 222; Arlington, VA 22203.

We will not accept e-mail or faxes. We will post all submissions on http://www.regulations.gov. This generally means that we will post any personal information you provide us (see the ``Information Solicited'' section below for more details).

FOR FURTHER INFORMATION CONTACT: Susan Moore, Field Supervisor, Sacramento Fish and Wildlife Office, 2800 Cottage Way, W-2605, Sacramento, CA 95825; telephone 916-414-6600; facsimile 916-414-6712. If you use a telecommunications device for the deaf (TDD), call the Federal Information Relay Service at 800-877-8339

SUPPLEMENTARY INFORMATION:

Information Solicited

We are soliciting information during this reopened information solicitation period on the status of delta smelt (Hypomesus transpacificus). We published a 90-day finding on a petition to reclassify the delta smelt from threatened to endangered in the Federal Register on July 10, 2008 (73 FR 39639), which was made available to the public on the Federal eRulemaking Portal: http://www.regulations.gov on July 10, 2008. If you submitted information previously on the status of delta smelt during the previous information solicitation period, please do not resubmit it. This information has been incorporated into the public record and will be fully considered in the preparation of our 12-month finding.

You may submit your information and materials concerning the 90-day finding by one of the methods listed in the ADDRESSES section. We will not consider submissions sent by e-mail or fax or to an address not listed in the ADDRESSES section. If you submit information via http://www.regulations.gov, your entire submission—including any personal identifying information—will be posted on the Web site. If your submission is made via a hardcopy that includes personal identifying information, you may request at the top of your document that we withhold this information from public review. However, we cannot guarantee that we will be able to do so. We will post all hardcopy submissions on http://www.regulations.gov.

Information and materials we receive, as well as supporting documentation we used in preparing the 90-day finding for delta smelt, will be available for public inspection on http://www.regulations.gov, or by appointment, during normal business hours, at the U.S. Fish and Wildlife Service, Sacramento Fish and Wildlife Office (see FOR FURTHER INFORMATION CONTACT).

Background

On July 10, 2008, we published a notice in the Federal Register (73 FR 39639) announcing the availability of the 90-day finding on a petition to reclassify the delta smelt (Hypomesus transpacificus) from threatened to endangered. Due to an unintentional error on Regulations.gov, information was not able to be submitted electronically by the public during the initial 60-day information solicitation period. Therefore, we are reopening the information solicitation period to allow all interested parties to submit information and materials on the status of delta smelt.

Section 4(b)(3)(A) of the Act requires that we make a finding on whether a petition to list, delist, or reclassify a species presents substantial scientific or commercial information to indicate that the petitioned action may be warranted. We are to base this finding on information provided in the petition, supporting information submitted with the petition, and information otherwise available in our files at the time we make the determination. To the maximum extent practicable, we are to make this finding within 90 days of our receipt of the petition and publish our notice of the finding promptly in the Federal Register.

Our standard for substantial scientific or commercial information within the Code of Federal Regulations (CFR) with regard to a 90-day petition finding is “that amount of information that would lead a reasonable person to believe that the measure proposed in the petition may be warranted” (50 CFR 424.14(b)). If we find that substantial scientific or commercial information was presented, we are required to promptly commence a status review of the species.

It is important to note that the “substantial information” standard for a 90-day finding is in contrast to the Act's “best scientific and commercial data” standard that applies to a 12-month finding as to whether a petitioned action is warranted. A 90-day finding is not a status assessment of the species and does not constitute a status review under the Act. Our final determination as to whether a petitioned action is warranted is not made until we have completed a thorough status review of the species, which is conducted following a positive 90-day finding. Because the Act's standards for 90-day and 12-month findings are different, as described above, a positive 90-day finding does not mean that the 12-month finding also will be positive.

Authority: The authority for this action is the Endangered Species Act of 1973 (16 U.S.C. 1531 et seq.).

Dated: November 24, 2008.
Deputy Director,
U.S. Fish and Wildlife Service.

[FR Doc. E8-28753 Filed 12-8-08; 8:45 am]

BILLING CODE 4310-55-P